DEPARTMENT OF ENERGY

Federal Energy Regulatory Commission

[Docket Nos. RP01-245-012 and RP01-253-004]

Transcontinental Gas Pipe Line Corporation; Notice of Compliance Filing

September 5, 2002.

Take notice that on August 28, 2002 Transcontinental Gas Pipe Line Corporation (Transco) tendered for filing as part of its FERC Gas Tariff, Third Revised Volume No. 1, certain revised tariff sheets listed on Appendix A attached to the filing contains the enumeration and effective dates of the revised tariff sheets.

Transco states that the purpose of this compliance filing is to implement the rates and tariff provisions reflected in the pro forma tariff sheets included in Appendix D and Appendix E to the Stipulation and Agreement in Docket Nos. RP01-245-000, et al. (Agreement), approved by the Commission on July 23, 2002 (July 23 Order). Transco states that pursuant to the terms of the Article XI of the Agreement, the Agreement will become effective on October 1, 2002, and has proposed that the tariff sheets submitted in this compliance filing be made effective October 1,2002. In addition to the foregoing, included in the filing are tariff sheets proposed to be effective August 1, 2002, which reflect the settlement rates approved by the July 23 Order updated to incorporate the approved Great Plains Volumetric Surcharge tracking rate change filing made by Transco on June 28, 2002 and approved by the Commission on July 24, 2002 in Docket No. RP02-371-000, subsequent to the April 12, 2002 filing of the Agreement.

Transco states that copies of the filing are being mailed to all parties in Docket Nos. RP01-245-000, et al., and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-23164 Filed 9-17-02; 8:45 am]

BILLING CODE 6717-01-P